DEPARTMENT OF THE INTERIOR

Fish and Wildlife Service

Notice of Meeting

AGENCY: Fish and Wildlife Service, Interior

ACTION: Notice of meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. The objective of this meeting is to review the progress of the 2000 Klamath chinook salmon fishing season and plan for fishery management in 2001. The meeting is open to the public.

DATES: The Klamath Fishery Management Council will meet from 1:00 p.m. to 5:00 p.m. on Wednesday, October 25, 2000; from 8:00 a.m. to 5:00 p.m. on Thursday, October 26, 2000; and from 8:00 a.m. to 12:00 p.m. on Friday, October 27, 2000.

Place: The meeting will be held at the Yreka Fish and Wildlife Office, 1829 South Oregon Street, Yreka, California.

FOR FURTHER INFORMATION CONTACT: Dr. Ronald A. Iverson, Project Leader, U.S. Fish and Wildlife Service, 1829 South Oregon Street, Yreka, California 96097, telephone (530) 842-5763.

SUPPLEMENTARY INFORMATION: For background information on the Klamath Council, please refer to the notice of their initial meeting that appeared in the Federal Register on July 8, 1987 (52 FR 25639).

Dated: September 25, 2000.
Elizabeth H. Stevens.
California/Nevada Operations Manager, California/Nevada Office, U.S. Fish and Wildlife Service.

[FR Doc. 00-25147 Filed 9-29-00; 8:45 am]

BILLING CODE 4310-55-P